DEPARTMENT OF COMMERCE

Bureau of Industry and Security

15 CFR Parts 748 and 774

[Docket No. 080307395-8515-01]

RIN 0694-AE32

Technical Corrections to the Export Administration Regulations Based Upon a Systematic Review of the CCL

AGENCY: Bureau of Industry and Security, Commerce.

ACTION: Final rule.

SUMMARY: This rule amends the Export Administration Regulations (EAR) to make various technical corrections and clarifications to the EAR as a result of a systematic review of the Commerce Control List (CCL) that was conducted by the Bureau of Industry and Security (BIS). This rule is the first phase of the regulatory implementation of the results of a review of the CCL that was conducted by BIS starting in 2007. The BIS CCL review benefited from input received from BIS's Technical Advisory Committees (TACs) and comments that were received from the interested public in response to the publication of a BIS notice of inquiry on July 17, 2007 (72 FR 39052).

DATES: Effective Date: This rule is effective: April 18, 2008. Although there is no formal comment period, public comments on this regulation are welcome on a continuing basis.

ADDRESSES: You may submit comments, identified by RIN 0694-AE32, by any of the following methods:

E-mail: publiccomments@bis.doc.gov Include “RIN 0694-AE32” in the subject line of the message.

Fax: (202) 482-3355. Please alert the Regulatory Policy Division, by calling (202) 482-2440, if you are faxing comments.

Mail or Hand Delivery/Courier: Timothy Mooney, U.S. Department of Commerce, Bureau of Industry and Security, Regulatory Policy Division, 14th St. & Pennsylvania Avenue, NW., Room 2705, Washington, DC 20230, Attn: RIN 0694-AE32.

Send comments regarding the collection of information associated with this rule, including suggestions for reducing the burden, to David Rostker, Office of Management and Budget (OMB), by e-mail to David_Rostker@omb.eop.gov, or by fax to (202) 395-7285; and to the U.S. Department of Commerce, Bureau of Industry and Security, Regulatory Policy Division, 14th St. & Pennsylvania Avenue, NW., Room 2705, Washington, DC 20230. Comments on this collection of information should be submitted separately from comments on the final rule (i.e. RIN 0694-AE32)—all comments on the latter should be submitted by one of the three methods outlined above.

FOR FURTHER INFORMATION CONTACT: Timothy Mooney, Office of Exporter Services, Bureau of Industry and Security, U.S. Department of Commerce; by telephone: (202) 482-2440; or by fax: 202-482-3355.

SUPPLEMENTARY INFORMATION:

Background

This rule amends the Export Administration Regulations (EAR) to make various technical corrections and clarifications to the EAR as a result of a systematic review of the Commerce Control List (CCL) that was conducted by the Bureau of Industry and Security (BIS) beginning in 2007. This rule is the first phase of the regulatory implementation of the results of that review. This rule focuses on making needed technical corrections and clarifications to the CCL. The BIS CCL review benefited from input received from BIS's Technical Advisory Committees (TACs) and public comments received in response to a BIS notice of inquiry (July 17, 2007, 72 FR 39052).

BIS intends to publish another rule later this year that will implement the second phase of the regulatory implementation of the results of that systematic review of the CCL. That rule is tentatively titled, “Revisions to the Export Administration Regulations based upon a Systematic Review of the Commerce Control List” (RIN: 0694-AE33). That second rule will include substantive changes to the CCL.

As a part of the implementation phase of the CCL review, the agency is also taking other non-regulatory actions to improve the public's understanding of the CCL. These BIS actions involve publishing certain advisory opinions and creating new web guidance to provide greater clarity to exporters and reexporters regarding existing provisions of the CCL. BIS has also created a new process whereby BIS has stated its intention to conduct similar types of systematic reviews of the CCL in the future in order to continuously improve the CCL.

This rule makes the following technical revision to the Export Administration Regulations (EAR):

In Supplement No. 1 to Part 748 (BIS-748P, BIS-748P-A; Item Appendix, and BIS-748P-B; End-User Appendix; Multipurpose Application Instructions), this rule amends the instructions for “Block 6: Documents submitted with application”, to provide guidance to applicants who wish to include foreign availability support material for items not controlled for national security reasons. This new instruction guidance under Block 6 explains the procedure applicants should follow for submitting this information. The purpose of submitting this foreign availability information would be to make the U.S. Government more aware of the foreign availability of items not controlled for national security reasons.

In addition, this rule makes the following technical revisions to the Commerce Control List (CCL) (Supplement No. 1 to Part 774 of the EAR):

(1) This rule revises the “Related Controls” paragraphs in the following twenty-four CCL entries: 0A018, 1A001, 1A003, 1A005, 1C004, 1C006, 1C008, 1C009, 1C011, 1C012, 1D001, 1D018, 1E002, 2A983, 2B004, 2B005, 2E101, 2E201, 3A002, 3B002, 3B992, 3D002, 4D003, and 5E002 by adding additional related controls references or making changes for greater specificity for the related controls references. BIS includes related controls references in CCL entries to assist exporters in classifying items on the CCL and in some cases provides cross-references for items that are listed on the CCL, but are under the export control jurisdiction of other U.S. Government agencies. Several of the public comments received by BIS, as a part of the CCL review process, requested that BIS add these types of additional related controls references to better assist the public in classifying their items using the CCL.

(2) This rule is also amending the “Unit” paragraph in the following fourteen CCL entries: 1B003, 2B001, 2B003, 2B004, 4A001, 4A003, 4A004, 5B001, 6A002, 6A004, 6A005, 8A001, 9A004, and 9B009. Several of the comments received by BIS, as a part of the CCL review process, requested that changes be made to the “Unit” paragraphs of certain CCL entries, so that the unit of measurement in the “Unit” paragraphs would conform to standard quantities for the items controlled in those respective CCL entries. BIS agreed that these technical corrections should be made to the CCL in order to ensure that the “Unit” paragraphs conformed with the items controlled in those CCL entries.

(3) In three CCL entries, 6D003, 8D001 and 8E001, this rule removes outdated references in the “License Exceptions” section of each of these CCL entries that had incorrectly referred to License Exception TSR non-availability for items under those CCL entries controlled for Missile Technology (MT) reasons. None of these three CCL entries is controlled for MT reasons, so the reference to the restriction on the use of License Exception TSR in these CCL entries is outdated and confusing. This rule corrects that by removing the outdated reference to the MT restriction in each of these CCL entries.

Although the Export Administration Act expired on August 20, 2001, the President, through Executive Order 13222 of August 17, 2001, 3 CFR, 2001 Comp., p. 783 (2002), as extended by the Notice of August 15, 2007, 72 FR 46137 (August 16, 2007), has continued the Export Administration Regulations in effect under the International Emergency Economic Powers Act.

Rulemaking Requirements

1. This final rule has been determined to be not significant for purposes of E.O. 12866.

2. Notwithstanding any other provision of law, no person is required to respond to, nor shall any person be subject to a penalty for failure to comply with a collection of information, subject to the requirements of the Paperwork Reduction Act, unless that collection of information displays a currently valid Office of Management and Budget Control Number. This rule contains a collection of information subject to the Paperwork Reduction Act of 1980 (44 U.S.C. 3501 et seq.). This collection has been approved by the Office of Management and Budget under control number 0694-0088, “Multi-Purpose Application,” which carries a burden hour estimate of 58 minutes for a manual or electronic submission.

3. This rule does not contain policies with Federalism implications as that term is defined under E.O. 13132.

4. The Department finds that there is good cause under 5 U.S.C. 553(b)(B) to waive the provisions of the Administrative Procedure Act requiring prior notice and the opportunity for public comment because they are unnecessary. The changes made by this rule are not substantive changes, but rather are updates to cross-references, conformance of units of measure to item descriptions, and removal of outdated references. This rule does not alter any right, obligation or prohibition that applies to any person under the Export Administration Regulations (EAR). Because these revisions are not substantive changes, it is unnecessary to provide notice and opportunity for public comment. In addition, the 30-day delay in effectiveness required by 5 U.S.C. 553(d) is not applicable because this rule is not a substantive rule. Because a notice of proposed rulemaking and an opportunity for public comment are not required to be given for this rule under the Administrative Procedure Act or by any other law, the analytical requirements of the Regulatory Flexibility Act (5 U.S.C. 601 et seq.) are not applicable.

List of Subjects

15 CFR Part 748

Administrative practice and procedure, Exports, Reporting and recordkeeping requirements.

15 CFR Part 774

Exports, Reporting and recordkeeping requirements.

Accordingly, parts 748 and 774 of the Export Administration Regulations (15 CFR parts 730-774) are amended as follows:

PART 748—[AMENDED]

1. The authority citation for 15 CFR part 748 continues to read as follows:

Authority: 50 U.S.C. app. 2401 et seq.; 50 U.S.C. 1701 et seq.; E.O. 13026, 61 FR 58767, 3 CFR, 1996 Comp., p. 228; E.O. 13222, 66 FR 44025, 3 CFR, 2001 Comp., p. 783; Notice of August 15, 2007, 72 FR 46137 (August 16, 2007).

2. Supplement No. 1 to part 748 is amended by revising “Block 6: Documents submitted with Application”, to read as follows:

Supplement No. 1 to Part 748 BIS-748P, BIS-748P-A: Item Appendix, and BIS-748P-B; End-User Appendix; Multipurpose Application Instructions

* * * * *

Block 6: Documents submitted with Application. Review the documentation you are required to submit with your application in accordance with the provisions of part 748 of the EAR, and mark all applicable Boxes with an (X).

Mark the Box “Foreign Availability” with an (X) if you are submitting an assertion of foreign availability with your license application. See part 768 of the EAR for instructions on foreign availability submissions.

If you are not making a foreign availability assertion under part 768 of the EAR, you may still mark the box “Foreign Availability” with an (X), if you are submitting an assertion of foreign availability with your license application. Foreign availability assertions covered under part 768 are limited to items controlled for national security reasons. However, if an applicant intends to include foreign availability support material for items not controlled for national security reasons, applicants are permitted to do this as part of the license application by marking the box “Foreign Availability” with an (X) and including the foreign availability information, along with the support material for the license application. Applicants must clearly label this support material as “Foreign availability information—outside the scope of part 768”. Although this information is outside the scope of part 768, applicants should still use Supplement No. 1 to part 768 for general guidance regarding what types of information may be suitable for demonstrating foreign availability. The purpose of submitting this type of foreign availability information will be to make the U.S. Government more aware of the foreign availability of items not controlled for national security reasons.

Mark the “Tech. Specs.” box with an (X) if you are submitting descriptive literature, brochures, technical specifications, etc. with your application.

* * * * *

PART 774—[AMENDED]

3. The authority citation for 15 CFR part 774 continues to read as follows:

Authority: 50 U.S.C. app. 2401 et seq.; 50 U.S.C. 1701 et seq.; 10 U.S.C. 7420; 10 U.S.C. 7430(e); 22 U.S.C. 287c, 22 U.S.C. 3201 et seq., 22 U.S.C. 6004; 30 U.S.C. 185(s), 185(u); 42 U.S.C. 2139a; 42 U.S.C. 6212; 43 U.S.C. 1354; 46 U.S.C. app. 466c; 50 U.S.C. app. 5; 22 U.S.C. 7201 et seq.; 22 U.S.C. 7210; E.O. 13026, 61 FR 58767, 3 CFR, 1996 Comp., p. 228; E.O. 13222, 66 FR 44025, 3 CFR, 2001 Comp., p. 783; Notice of August 15, 2007, 72 FR 46137 (August 16, 2007).

4. In Supplement No. 1 to part 774 (the Commerce Control List), Category 0—Nuclear Materials, Facilities, and Equipment [and Miscellaneous Items], Export Control Classification Number (ECCN) 0A018 is amended by revising the “Related Controls” paragraph in the List of Items Controlled section, to read as follows:

0A018 Items on the Wassenaar Munitions List.

* * * * *

List of Items Controlled

Unit: * * *

Related Controls: (1) See § 746.8(b)(1) for additional BIS licensing requirements for Rwanda concerning this entry. (2) See also 0A979, 0A988, and 22 CFR 121.1 Categories I(a), III(b-d), and X(a).

* * * * *

5. In Supplement No. 1 to part 774 (the Commerce Control List), Category 1—Materials, Chemicals, “Microorganisms,” & Toxins, Export Control Classification Number (ECCN) 1A001 is amended by revising the “Related Controls” paragraph in the List of Items Controlled section, to read as follows:

1A001 Components Made From Fluorinated Compounds, as Follows (See List of Items Controlled).

* * * * *

List of Items Controlled

Unit: * * *

Related Controls: (1) Items specially designed or modified for missiles or for items on the U.S. Munitions List are subject to the export licensing authority of the U.S. Department of State, Directorate of Defense Trade Controls (see 22 CFR 121.1 Category XXI). (2) See also 1C009.

* * * * *

6. In Supplement No. 1 to part 774 (the Commerce Control List), Category 1—Materials, Chemicals, “Microorganisms,” & Toxins, Export Control Classification Number (ECCN) 1A003 is amended by revising the “Related Controls” paragraph in the List of Items Controlled section, to read as follows:

1A003 Manufactures of Non-Fluorinated Polymeric Substances Controlled by 1C008.a.3 in Film, Sheet, Tape or Ribbon Form With Either of the Following Characteristics (See List of Items Controlled).

* * * * *

List of Items Controlled

Unit: * * *

Related Controls: This entry does not control manufactures when coated or laminated with copper and designed for the production of electronic printed circuit boards. See also 1C008.

* * * * *

7. In Supplement No. 1 to part 774 (the Commerce Control List), Category 1—Materials, Chemicals, “Microorganisms,” & Toxins, Export Control Classification Number (ECCN) 1A005 is amended by revising the “Related Controls” paragraph in the List of Items Controlled section, to read as follows:

1A005 Body Armor, and Specially Designed Components Therefor, Not Manufactured to Military Standards or Specifications, Nor to Their Equivalents in Performance.

* * * * *

List of Items Controlled

Unit: * * *

Related Controls: (1) Bulletproof and bullet resistant vests (body armor) NIJ levels III and IV, are subject to the export licensing authority of the U.S. Department of State, Directorate of Defense Trade Controls (see 22 CFR 121.1 Categories X(a) and XIV(f, h)). (2) For “fibrous or filamentary materials” used in the manufacture of body armor, see ECCN 1C010. (3) See § 746.8(b)(1) for additional licensing requirements concerning this entry.

* * * * *

8. In Supplement No. 1 to part 774 (the Commerce Control List), Category 1—Materials, Chemicals, “Microorganisms,” & Toxins, Export Control Classification Number (ECCN) 1B003 is amended by revising the “Unit” paragraph in the List of Items Controlled section, to read as follows:

1B003 Tools, Dies, Molds or Fixtures, for “Superplastic Forming” or “Diffusion Bonding” Titanium or Aluminum or Their Alloys, Specially Designed for the Manufacture of (See List of Items Controlled).

* * * * *

List of Items Controlled

Unit: Tools in number; dies, molds, or fixtures in $ value

* * * * *

9. In Supplement No. 1 to part 774 (the Commerce Control List), Category 1—Materials, Chemicals, “Microorganisms,” & Toxins, Export Control Classification Number (ECCN) 1C004 is amended by revising the “Related Controls” paragraph in the List of Items Controlled section, to read as follows:

1C004 Uranium Titanium Alloys or Tungsten Alloys With a “Matrix” Based on Iron, Nickel or Copper, Having All of the Characteristics (See List of Items Controlled).

* * * * *

List of Items Controlled

Unit: * * *

Related Controls: See also 1C117 and 1C226.

* * * * *

10. In Supplement No. 1 to part 774 (the Commerce Control List), Category 1—Materials, Chemicals, “Microorganisms,” & Toxins, Export Control Classification Number (ECCN) 1C006 is amended by revising the “Related Controls” paragraph in the List of Items Controlled section, to read as follows:

1C006 Fluids and Lubricating Materials, as Follows (See List of Items Controlled).

* * * * *

List of Items Controlled

Unit: * * *

Related Controls: See also 1C996.

* * * * *

11. In Supplement No. 1 to part 774 (the Commerce Control List), Category 1—Materials, Chemicals, “Microorganisms,” & Toxins, Export Control Classification Number (ECCN) 1C008 is amended by revising the “Related Controls” paragraph in the List of Items Controlled section, to read as follows:

1C008 Non-Fluorinated Polymeric Substances, as Follows (See List of Items Controlled).

* * * * *

List of Items Controlled

Unit: * * *

Related Controls: See also 1A003.

* * * * *

12. In Supplement No. 1 to part 774 (the Commerce Control List), Category 1—Materials, Chemicals, “Microorganisms,” & Toxins, Export Control Classification Number (ECCN) 1C009 is amended by revising the “Related Controls” paragraph in the List of Items Controlled section, to read as follows:

1C009 Unprocessed Fluorinated Compounds, as Follows (See List of Items Controlled).

* * * * *

List of Items Controlled

Unit: * * *

Related Controls: See also 1A001.

* * * * *

13. In Supplement No. 1 to part 774 (the Commerce Control List), Category 1—Materials, Chemicals, “Microorganisms,” & Toxins, Export Control Classification Number (ECCN) 1C011 is amended by revising the “Related Controls” paragraph in the List of Items Controlled section, to read as follows:

1C011 Metals and Compounds, as Follows (See List of Items Controlled).

* * * * *

List of Items Controlled

Unit: * * *

Related Controls: (1) See also 1C018 and 1C111. (2) Items controlled by 1C011.a, and metal fuels in particle form, whether spherical, atomized, spheroidal, flaked or ground, manufactured from material consisting of 99 percent or more of items controlled by 1C011.b. are subject to the export licensing authority of the U.S. Department of State, Directorate of Defense Trade Controls (see 22 CFR 121.1 Category V).

* * * * *

14. In Supplement No. 1 to part 774 (the Commerce Control List), Category 1—Materials, Chemicals, “Microorganisms,” & Toxins, Export Control Classification Number (ECCN) 1C012 is amended by revising the “Reason for Control” paragraph in the License Requirements section and the “Related Controls” paragraph in the List of Items Controlled section, to read as follows:

1C012 Materials, as Follows (See List of Items Controlled).

License Requirements

Reason for Control:

Control(s)

Items described in 1C012 are subject to the export licensing authority of the Nuclear Regulatory Commission (see 10 CFR part 110, item 9A)).

* * * * *

List of Items Controlled

Unit: * * *

Related Controls: See also 0C002.

* * * * *

15. In Supplement No. 1 to part 774 (the Commerce Control List), Category 1—Materials, Chemicals, “Microorganisms,” & Toxins, Export Control Classification Number (ECCN) 1D001 is amended by revising the “Related Controls” paragraph in the List of Items Controlled section, to read as follows:

1D001 “Software” Specially Designed or Modified for the “Development”, “Production” or “Use” of Equipment Controlled by 1B001 to 1B003.

* * * * *

List of Items Controlled

Unit: * * *

Related Controls: (1) See ECCNs 1E101 (“use”) and 1E102 (“development” and “production”) for technology for items controlled by this entry. (2) Also see 1D002, 1D101, 1D201, and 1D999.

* * * * *

16. In Supplement No. 1 to part 774 (the Commerce Control List), Category 1—Materials, Chemicals, “Microorganisms,” & Toxins, Export Control Classification Number (ECCN) 1D018 is amended by revising the “Related Controls” paragraph in the List of Items Controlled section, to read as follows:

1D018 “Software” Specially Designed or Modified for the “Development”, “Production”, or “Use” of Items Controlled by 1B018.

* * * * *

List of Items Controlled

Unit: $ value

Related Controls: See § 746.8(b)(1) for additional BIS licensing requirements for Rwanda concerning this entry.

* * * * *

17. In Supplement No. 1 to part 774 (the Commerce Control List), Category 1—Materials, Chemicals, “Microorganisms,” & Toxins, Export Control Classification Number (ECCN) 1E002 is amended by revising the “Related Controls” paragraph in the List of Items Controlled section, to read as follows:

1E002 Other “Technology”, as Follows (See List of Items Controlled).

* * * * *

List of Items Controlled

Unit: * * *

Related Controls: See also 1E001, 1E101,1E102, 1E202, and 1E994 for “technology” related to 1E002.e or .f.

* * * * *

18. In Supplement No. 1 to part 774 (the Commerce Control List), Category 2—Materials Processing, Export Control Classification Number (ECCN) 2A983 is amended by revising the “Related Controls” paragraph in the List of Items Controlled section, to read as follows:

2A983 Explosives or Detonator Detection Equipment, Both Bulk and Trace Based, Consisting of an Automated Device, or Combination of Devices for Automated Decision Making to Detect the Presence of Different Types of Explosives, Explosive Residue, or Detonators; and Parts and Components, n.e.s.

* * * * *

List of Items Controlled

Unit: * * *

Related Controls: Also see 1A004 and 1A995.

* * * * *

19. In Supplement No. 1 to part 774 (the Commerce Control List), Category 2—Materials Processing, Export Control Classification Number (ECCN) 2B001 is amended by revising the “Unit” paragraph in the List of Items Controlled section, to read as follows:

2B001 Machine Tools and Any Combination Thereof, for Removing (or cutting) Metals, Ceramics or “Composites”, Which, According to the Manufacturer's Technical Specifications, Can Be Equipped With Electronic Devices for “Numerical control”; and Specially Designed Components (See List of Items Controlled).

* * * * *

List of Items Controlled

Unit: Machine tools in number; components in $ value

* * * * *

20. In Supplement No. 1 to part 774 (the Commerce Control List), Category 2—Materials Processing, Export Control Classification Number (ECCN) 2B003 is amended by revising the “Unit” paragraph in the List of Items Controlled section, to read as follows:

2B003 “Numerically Controlled” or Manual Machine Tools, and Specially Designed Components, Controls and Accessories Therefor, Specially Designed for the Shaving, Finishing, Grinding or Honing of Hardened (Rc = 40 or More) Spur, Helical and Double-Helical Gears With a Pitch Diameter Exceeding 1,250 mm and a Face Width of 15% of Pitch Diameter or Larger Finished to a Quality of AGMA 14 or Better (Equivalent to ISO 1328 class 3).

* * * * *

List of Items Controlled

Unit: Machine Tools in number; components, controls and accessories in $ value

* * * * *

21. In Supplement No. 1 to part 774 (the Commerce Control List), Category 2—Materials Processing, Export Control Classification Number (ECCN) 2B004 is amended by revising the “Unit” and “Related Controls” paragraphs in the List of Items Controlled section, to read as follows:

2B004 Hot “Isostatic Presses”, Having All of the Characteristics Described in the List of Items Controlled, and Specially Designed Components and Accessories Therefor.

* * * * *

List of Items Controlled

Unit: Presses in number; components and accessories in $ value

Related Controls: (1) See ECCN 2D001 for software for items controlled under this entry. (2) See ECCNs 2E001 (“development”), 2E002 (“production”), and 2E101 (“use”) for technology for items controlled under this entry. (3) For specially designed dies, molds and tooling, see ECCNs 1B003, 2B018, 9B004, and 9B009. (4) For additional controls on dies, molds and tooling, see ECCNs 1B101.d, 2B104 and 2B204. (5) Also see ECCNs 2B117 and 2B999.a.

* * * * *

22. In Supplement No. 1 to part 774 (the Commerce Control List), Category 2—Materials Processing, Export Control Classification Number (ECCN) 2B005 is amended by revising the “Related Controls” paragraph in the List of Items Controlled section, to read as follows:

2B005 Equipment Specially Designed for the Deposition, Processing and In-Process Control of Inorganic Overlays, Coatings and Surface Modifications, as Follows, for Non-Electronic Substrates, by Processes Shown in the Table and Associated Notes Following 2E003.f, and Specially Designed Automated Handling, Positioning, Manipulation and Control Components Therefor.

* * * * *

List of Items Controlled

Unit: * * *

Related Controls: (1) This entry does not control chemical vapor deposition, cathodic arc, sputter deposition, ion plating or ion implantation equipment specially designed for cutting or machining tools. (2) Vapor deposition equipment for the production of filamentary materials are controlled by 1B001 or 1B101. (3) Chemical Vapor Deposition furnaces designed or modified for densification of carbon-carbon composites are controlled by 2B104. (4) See also 2B999.i.

* * * * *

23. In Supplement No. 1 to part 774 (the Commerce Control List), Category 2—Materials Processing, Export Control Classification Number (ECCN) 2E101 is amended by revising the “Related Controls” paragraph in the List of Items Controlled section, to read as follows:

2E101 “Technology” According to the General Technology Note for the “Use” of Equipment or “Software” Controlled by 2B004, 2B009, 2B104, 2B105, 2B109, 2B116, 2B117, 2B119 to 2B122, 2D001, 2D002 or 2D101.

* * * * *

List of Items Controlled

Unit: * * *

Related Controls: (1) This entry controls only “technology” for 2B009 and 2B109 for spin forming machines combining the functions of spin forming and flow forming, and flow forming machines. (2) Also see 2E201.

* * * * *

24. In Supplement No. 1 to part 774 (the Commerce Control List), Category 2—Materials Processing, Export Control Classification Number (ECCN) 2E201 is amended by revising the “Related Controls” paragraph in the List of Items Controlled section, to read as follows:

2E201 “Technology” According to the General Technology Note for the “Use” of Equipment or “Software” Controlled by 2A225, 2A226, 2B001, 2B006, 2B007.b, 2B007.c, 2B201, 2B204, 2B206, 2B207, 2B209, 2B225 to 2B232, 2D002, 2D201 or 2D202 for NP Reasons.

* * * * *

List of Items Controlled

Unit: * * *

Related Controls: Also see 2E290 and 2E991.

* * * * *

25. In Supplement No. 1 to part 774 (the Commerce Control List), Category 3—Electronics, Export Control Classification Number (ECCN) 3A002 is amended by revising the “Related Controls” paragraph in the List of Items Controlled section, to read as follows:

3A002 General Purpose Electronic Equipment, as Follows (See List of Items Controlled).

* * * * *

List of Items Controlled

Unit: * * *

Related Controls: “Space qualified” atomic frequency standards defined in 3A002.g.2 are subject to the export licensing authority of the Department of State, Directorate of Defense Trade Controls (22 CFR 121.1 Category XV). See also 3A292 and 3A992.

* * * * *

26. In Supplement No. 1 to part 774 (the Commerce Control List), Category 3—Electronics, Export Control Classification Number (ECCN) 3B002 is amended by revising the “Related Controls” paragraph in the List of Items Controlled section, to read as follows:

3B002 Test Equipment, Specially Designed for Testing Finished or Unfinished Semiconductor Devices, as Follows (See List of Items Controlled), and Specially Designed Components and Accessories Therefor.

* * * * *

List of Items Controlled

Unit: * * *

Related Controls: See also 3A999.a and 3B992.

* * * * *

27. In Supplement No. 1 to part 774 (the Commerce Control List), Category 3—Electronics, Export Control Classification Number (ECCN) 3B992 is amended by revising the “Related Controls” paragraph in the List of Items Controlled section, to read as follows:

3B992 Equipment Not Controlled by 3B002 for the Inspection or Testing of Electronic Components and Materials, and Specially Designed Components and Accessories Therefor.

* * * * *

List of Items Controlled

Unit: * * *

Related Controls: See also 3A992.a.

* * * * *

28. In Supplement No. 1 to part 774 (the Commerce Control List), Category 3—Electronics, Export Control Classification Number (ECCN) 3D002 is amended by revising the “Related Controls” paragraph in the List of Items Controlled section, to read as follows:

3D002 “Software” Specially Designed for the “Use” of Any of the Following (See List of Items Controlled).

* * * * *

List of Items Controlled

Unit: * * *

Related Controls: Also see 3D991.

* * * * *

29. In Supplement No. 1 to part 774 (the Commerce Control List), Category 4—Computers, Export Control Classification Number (ECCN) 4A001 is amended by revising the “Unit” paragraph in the List of Items Controlled section, to read as follows:

4A001 Electronic Computers and Related Equipment, and “Electronic Assemblies” and Specially Designed Components Therefor.

* * * * *

List of Items Controlled

Unit: Computers and related equipment in number; “electronic assemblies” and components in $ value

* * * * *

30. In Supplement No. 1 to part 774 (the Commerce Control List), Category 4—Computers, Export Control Classification Number (ECCN) 4A003 is amended by revising the “Unit” paragraph in the List of Items Controlled section, to read as follows:

4A003 “Digital Computers”, “Electronic Assemblies”, and Related Equipment Therefor, as Follows, and Specially Designed Components Therefor.

* * * * *

List of Items Controlled

Unit: Computers and related equipment in number; “electronic assemblies” and components in $ value

* * * * *

31. In Supplement No. 1 to part 774 (the Commerce Control List), Category 4—Computers, Export Control Classification Number (ECCN) 4A004 is amended by revising the “Unit” paragraph in the List of Items Controlled section, to read as follows:

4A004 Computers, as Follows (See List of Items Controlled) and Specially Designed Related Equipment, “Electronic Assemblies” and Components Therefor.

* * * * *

List of Items Controlled

Unit: Computers and related equipment in number; “electronic assemblies” and components in $ value

* * * * *

32. In Supplement No. 1 to part 774 (the Commerce Control List), Category 4—Computers, Export Control Classification Number (ECCN) 4D003 is amended by revising the “Related Controls” paragraph in the List of Items Controlled section, to read as follows:

4D003 Specific “Software”, as Follows (See List of Items Controlled).

* * * * *

List of Items Controlled

Unit: * * *

Related Controls: See also 4D993.

* * * * *

33. In Supplement No. 1 to part 774 (the Commerce Control List), Category 5—Telecommunications and “Information Security”, Part 1 Telecommunications, Export Control Classification Number (ECCN) 5B001 is amended by revising the “Unit” paragraph in the List of Items Controlled section, to read as follows:

5B001 Telecommunication Test, Inspection and Production Equipment, as Follows (See List of Items Controlled).

* * * * *

List of Items Controlled

Unit: Equipment in number; components and accessories in $ value

* * * * *

34. In Supplement No. 1 to part 774 (the Commerce Control List), Category 5—Telecommunications and “Information Security”, Part 2 “Information Security”, Export Control Classification Number (ECCN) 5E002 is amended by revising the “Related Controls” paragraph in the List of Items Controlled section, to read as follows:

5E002 “Technology” According to the General Technology Note for the “Development”, “Production” or “Use” of Equipment Controlled by 5A002 or 5B002 or “Software” Controlled by 5D002.

* * * * *

List of Items Controlled

Unit: N/A

Related Controls: See also 4E001 for 4A001.b, 4E001 for 4D001 for 4A001.b, and 5E992.

* * * * *

35. In Supplement No. 1 to part 774 (the Commerce Control List), Category 6—Sensors and Lasers, Export Control Classification Number (ECCN) 6A002 is amended by revising the “Unit” paragraph in the List of Items Controlled section, to read as follows:

6A002 Optical Sensors.

* * * * *

List of Items Controlled

Unit: Number

* * * * *

36. In Supplement No. 1 to part 774 (the Commerce Control List), Category 6—Sensors and Lasers, Export Control Classification Number (ECCN) 6A004 is amended by revising the “Unit” paragraph in the List of Items Controlled section, to read as follows:

6A004 Optics.

* * * * *

List of Items Controlled

Unit: Number

* * * * *

37. In Supplement No. 1 to part 774 (the Commerce Control List), Category 6—Sensors and Lasers, Export Control Classification Number (ECCN) 6A005 is amended by revising the “Unit” paragraph in the List of Items Controlled section, to read as follows:

6A005 “Lasers” (Other Than Those Described in 0B001.g.5 or .h.6), Components and Optical Equipment, as Follows (See List of Items Controlled).

* * * * *

List of Items Controlled

Unit: Number

* * * * *

38. In Supplement No. 1 to part 774 (the Commerce Control List), Category 6—Sensors and Lasers, Export Control Classification Number (ECCN) 6D003 is amended by revising the “License Exceptions” section, to read as follows:

6D003 Other “Software”, as Follows (See List of Items Controlled).

* * * * *

License Exceptions

CIV: Yes, for 6D003.h.1

TSR: Yes, except for exports or reexports to destinations outside of Austria, Belgium, Canada, Denmark, Finland, France, Germany, Greece, Ireland, Italy, Japan, Luxembourg, the Netherlands, Portugal, Spain, Sweden, or the United Kingdom of “software” for items controlled by 6D003.a.

* * * * *

39. In Supplement No. 1 to part 774 (the Commerce Control List), Category 8—Marine, Export Control Classification Number (ECCN) 8A001 is amended by revising the “Unit” paragraph in the List of Items Controlled section, to read as follows:

8A001 Submersible Vehicles and Surface Vessels, as Follows (See List of Items Controlled).

* * * * *

List of Items Controlled

Unit: Number

* * * * *

40. In Supplement No. 1 to part 774 (the Commerce Control List), Category 8—Marine, Export Control Classification Number (ECCN) 8D001 is amended by revising the “License Exceptions” section, to read as follows:

8D001 “Software” Specially Designed or Modified for the “Development”, “Production” or “Use” of Equipment or Materials Controlled by 8A (Except 8A018 or 8A992), 8B or 8C.

* * * * *

License Exceptions

CIV: N/A

TSR: Yes, except for exports or reexports to destinations outside of Austria, Belgium, Canada, Denmark, Finland, France, Germany, Greece, Ireland, Italy, Japan, Luxembourg, the Netherlands, Portugal, Spain, Sweden, or the United Kingdom of “software” specially designed for the “development” or “production” of equipment controlled by 8A001.b, 8A001.d, or 8A002.o.3.b.

* * * * *

41. In Supplement No. 1 to part 774 (the Commerce Control List), Category 8—Marine, Export Control Classification Number (ECCN) 8E001 is amended by revising the “License Exceptions” section, to read as follows:

8E001 “Technology” According to the General Technology Note for the “Development” or “Production” of Equipment or Materials Controlled by 8A (Except 8A018 or 8A992), 8B or 8C.

* * * * *

License Exceptions

CIV: N/A

TSR: Yes, except for exports or reexports to destinations outside of Austria, Belgium, Canada, Denmark, Finland, France, Germany, Greece, Ireland, Italy, Japan, Luxembourg, the Netherlands, Portugal, Spain, Sweden, or the United Kingdom of “technology” for items controlled by 8A001.b, 8A001.d or 8A002.o.3.b.

* * * * *

42. In Supplement No. 1 to part 774 (the Commerce Control List), Category 9—Propulsion Systems, Space Vehicles and Related Equipment, Export Control Classification Number (ECCN) 9A004 is amended by revising the “Unit” paragraph in the List of Items Controlled section, to read as follows:

9A004 Space Launch Vehicles and “Spacecraft”.

* * * * *

List of Items Controlled

Unit: Number

* * * * *

43. In Supplement No. 1 to part 774 (the Commerce Control List), Category 9—Propulsion Systems, Space Vehicles and Related Equipment, Export Control Classification Number (ECCN) 9B009 is amended by revising the “Unit” paragraph in the List of Items Controlled section, to read as follows:

9B009 Tooling Specially Designed for Producing Turbine Engine Powder Metallurgy Rotor Components Capable of Operating at Stress Levels of 60% of Ultimate Tensile Strength (UTS) or More and Metal Temperatures of 873 K (600 °C) or More.

* * * * *

List of Items Controlled

Unit: Number

* * * * *

Dated: April 11, 2008.
Matthew S. Borman,
Acting Assistant Secretary for Export Administration.

[FR Doc. E8-8302 Filed 4-17-08; 8:45 am]

BILLING CODE 3510-33-P